DEPARTMENT OF TRANSPORTATION

Federal Aviation Administration

Fifteenth Meeting: EUROCAE WG-72: RTCA Special Committee 216: Aeronautical Systems Security (Joint Meeting)

AGENCY: Federal Aviation Administration (FAA), DOT.

ACTION: Notice of EUROCAE WG-72: RTCA Special Committee 216: Aeronautical Systems Security (Joint Meeting).

SUMMARY: The FAA is issuing this notice to advise the public of a meeting of EUROCAE WG-72: RTCA Special Committee 216: Aeronautical Systems Security (Joint Meeting).

DATES: The meeting will be held January 18-21, 2011 starting at 9 a.m. to 5 p.m.

ADDRESSES: The meeting will be held at The Westin Long Beach, 333 East Ocean Boulevard, Long Beach, CA. Telephone—(562) 499-2025, Host, Boeing Commercial Airplane Group.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a EUROCAE WG-72: RTCA Special Committee 216: Aeronautical Systems Security (Joint Meeting) meeting.

Agenda

• Welcome/Introductions/Administrative Remarks.

• Agenda Overview and Approval of the Summary of the 14th meeting held October 12-14th, 2010 (RTCA Paper No. 250-10/SC216-031).

• Report on the PMC/ICC action on SC 216 TOR.

• Publication Progress and Update.

• Subgroup and Action Item Reports.

• Plenary review of EUROCAE Council and RTCA PMC actions on ED-202 and SC-216 TOR.

• Continuation of Glossary Review.

• Publication Considerations of Glossary (Update).

• Subgroup Meetings/Breakouts.

• Subgroup Reports on Breakouts.

• Establish Dates, Location and Agenda for Next Meeting(s).

• Any Other Business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 16, 2010.
Robert L. Bostiga,
RTCA Advisory Committee.

[FR Doc. 2010-32247 Filed 12-22-10; 8:45 am]

BILLING CODE 4910-13-P